DEPARTMENT OF COMMERCE

Office of the Secretary

Estimates of the Voting Age Population for 2014

AGENCY: Office of the Secretary, Commerce.

ACTION: General notice announcing population estimates.

SUMMARY: This notice announces the voting age population estimates as of July 1, 2014, for each state and the District of Columbia. We are providing this notice in accordance with the 1976 amendment to the Federal Election Campaign Act, Title 2, United States Code, Section 441a(e).

FOR FURTHER INFORMATION CONTACT: Karen Humes, Chief, Population Division, U.S. Census Bureau, Room HQ-5H174, Washington, DC 20233, at 301-763-2071.

SUPPLEMENTARY INFORMATION: Under the requirements of the 1976 amendment to the Federal Election Campaign Act, Title 2, United States Code, Section 441a(e), I hereby give notice that the estimates of the voting age population for July 1, 2014, for each state and the District of Columbia are as shown in the following table.

Estimates of the Population of Voting Age for Each State and the District of Columbia: July 1, 2014
Area | Population 18 and over
United States | 245,273,438
Alabama | 3,741,806
Alaska | 550,189
Arizona | 5,109,792
Arkansas | 2,259,350
California | 29,649,348
Colorado | 4,109,494
Connecticut | 2,821,247
Delaware | 731,367
District of Columbia | 543,588
Florida | 15,839,713
Georgia | 7,604,061
Hawaii | 1,111,117
Idaho | 1,203,384
Illinois | 9,892,106
Indiana | 5,014,928
Iowa | 2,381,172
Kansas | 2,181,355
Kentucky | 3,400,843
Louisiana | 3,536,183
Maine | 1,071,112
Maryland | 4,625,863
Massachusetts | 5,354,940
Michigan | 7,686,087
Minnesota | 4,175,347
Mississippi | 2,262,810
Missouri | 4,670,966
Montana | 798,555
Nebraska | 1,414,894
Nevada | 2,175,874
New Hampshire | 1,059,672
New Jersey | 6,926,094
New Mexico | 1,583,623
New York | 15,517,321
North Carolina | 7,656,415
North Dakota | 570,955
Ohio | 8,955,859
Oklahoma | 2,925,352
Oregon | 3,112,217
Pennsylvania | 10,086,316
Rhode Island | 842,321
South Carolina | 3,747,734
South Dakota | 642,768
Tennessee | 5,054,826
Texas | 19,841,344
Utah | 2,038,787
Vermont | 504,976
Virginia | 6,457,174
Washington | 5,458,809
West Virginia | 1,470,179
Wisconsin | 4,457,375
Wyoming | 445,830
Source: U.S. Census Bureau, Population Division, Vintage 2014 Population Estimates.

I have certified these estimates for the Federal Election Commission.

Dated: January 29, 2015.
Penny Pritzker,
Secretary of Commerce.

[FR Doc. 2015-02473 Filed 2-5-15; 8:45 am]

BILLING CODE 3510-07-P